DELAWARE RIVER BASIN COMMISSION

Notice of Commission Meeting and Public Hearing

Notice is hereby given that the Delaware River Basin Commission will hold an informal conference followed by a public hearing on Wednesday, September 15, 2010. The hearing will be part of the Commission's regular business meeting. The conference session and business meeting both are open to the public and will be held at the West Trenton Volunteer Fire Company, located at 40 West Upper Ferry Road, West Trenton, New Jersey.

The conference among the commissioners and staff will begin at 10:30 a.m. and will consist of: A report by staff on the year's progress in implementing the 2004 Basin Plan; a report by a representative of the U.S. Army Corps of Engineers on the regional sediment management planning process; and a presentation by a representative of the U.S. Environmental Protection Agency on the Delaware Basin Source Water Collaborative Forum to take place on March 10, 2011.

The subjects of the public hearing to be held during the 1:30 p.m. business meeting include the dockets listed below:

1. Upper Southampton Municipal Authority, D-1965-023 CP-2. An application for the renewal of a groundwater withdrawal project to supply the docket holder's water supply distribution system from existing Wells Nos. 3, 7, and 9. The docket holder requests an allocation of 13.53 million gallons per month (mgm). The project wells were constructed in the Stockton Formation and are located in the Southampton and Mill Creek Watersheds in Upper Southampton Township, Bucks County, Pennsylvania, in the Southeastern Pennsylvania Ground Water Protected Area (GWPA).

2. Abington Township, D-1973-191 CP-4. An application for renewal of the Abington Township Wastewater Treatment Plant (WWTP). The existing WWTP will continue to discharge treated effluent at an annual average flow of 3.91 million gallons per day (mgd) to Sandy Run, a tributary of the Wissahickon Creek, which drains to the Schuylkill River. The facility is located in Upper Dublin Township, Montgomery County, Pennsylvania.

3. Lower Moreland Township Authority, D-1987-052 CP-3. An application for the renewal of an existing 0.279 mgd discharge from the Chapel Hill WWTP to an unnamed tributary of Southampton Creek at River Mile 109.75-16.1-0.71-0.5 (Delaware River-Pennypack Creek-Southampton Creek-UNT). The Chapel Hill WWTP is located in Lower Moreland Township, Montgomery County, Pennsylvania.

4. Manwalamink Water Company, D-1989-050 CP-5. An application for renewal of a groundwater withdrawal project to continue to supply up to 15 mgm of groundwater to the public water supply system from existing Wells Nos. 1, 2, 3, 5, and 6. Wells Nos. 1 and 2 are completed in the Pleistocene alluvial sand and gravel aquifer. Wells Nos. 3, 5, and 6 are completed in the Ridgeley-Coeymans Formation. The project is located in the Shawnee Creek and Delaware River watersheds in Smithfield Township, Monroe County, Pennsylvania within the drainage area of the section of the non-tidal Delaware River known as the Middle Delaware, which is classified as Special Protection Waters.

5. Waste Management of Pennsylvania, D-1991-090-2. An application for the renewal of a surface water withdrawal project to continue to supply 6 mgm of water to the applicant's landfill operations from the existing Intake on Manor Lake. The project is located in the Delaware River Watershed in Tullytown and Falls townships, Bucks County, Pennsylvania.

6. Dan Schantz Farm and Greenhouses, D-1999-014-2. An application for the renewal of a groundwater withdrawal project to continue the withdrawal of up to 3.57 mgm of water for irrigation and potable water supply from eight existing wells located in the Brunswick Formation. The project is located in the Hosensach-Indian Creek Watershed in Lower Milford Township, Lehigh County, Pennsylvania in the Southeastern Pennsylvania Ground Water Protected Area.

7. Borough of Palmerton, D-1964-028 CP-2. An application for approval of an upgrade of the existing Palmerton Borough WWTP. The upgrade includes replacing the existing contact stabilization activated sludge treatment system with a sequencing batch reactor (SBR) treatment system. No increase in the design annual average flow of 0.75 mgd is proposed. The WWTP will continue to discharge to the Aquashicola Creek, a tributary of the Lehigh River, and is located within the drainage area of the section of the non-tidal Delaware River known as the Lower Delaware, which is classified as Special Protection Waters. The facility is located in the Borough of Palmerton, Carbon County, Pennsylvania.

8. Upper Gwynedd Township, D-1991-088 CP-6. An application for approval of a modification of the Upper Gwynedd Township WWTP by the addition of a Biomag™ treatment process. The process entails adding magnetite to the aeration tanks in order to enhance solids settling and BOD and nutrient removal. The WWTP will continue to treat an average annual flow of 5.7 mgd and discharge treated sewage effluent to the Wissahickon Creek, a tributary of the Schuylkill River. The facility is located in Upper Gwynedd Township, Montgomery County, Pennsylvania.

9. Plumstead Township, D-1997-033 CP-3. An application to approve the addition of new Well No. LG-6 to the applicant's 11 existing wells and to increase the applicant's total groundwater withdrawal allocation from all wells from 15.31 million gallons per 30 days (mg/30 days) to 23.02 mgm. The project wells are located in the Brunswick Group, Lockatong Formation, and Stockton Formation in Plumstead Township, Bucks County, Pennsylvania within four subbasins of the Southeastern Pennsylvania Ground Water Protected Area: Tohickon-Deep Run, Tohickon-Geddes-Cabin Runs, Pine Run, and North Branch Neshaminy Creek.

10. Borough of Bryn Athyn, D-2008-013 CP-3. An application for approval to modify the existing 0.08 mgd New Church WWTP. Modifications include the addition of an equalization tank and a sludge holding tank, to be incorporated into the existing treatment design. The New Church WWTP will continue to discharge to an unnamed Tributary of Huntingdon Valley Creek at River Mile 109.75-12.02-1.11-0.17 (Delaware River-Pennypack Creek-Huntingdon Valley Creek-UNT) in Bryn Athyn Borough, Montgomery County, Pennsylvania. The project is located in the Southeastern Pennsylvania Ground Water Protected Area.

11. Premcor Refining Group, D-2009-023-1. An application for approval to increase the dredging depth of the facility's Entrance Channel and Turning Basin by five feet (to a new depth of −37 ft. MLW) and of the Pier Berthing Area by three feet (to a new depth of −40 ft. MLW). Approximately 650,000 cubic yards of new material will be dredged to allow for larger ships to traverse and dock at the facility. The project is located in Water Quality Zone 5 of the Delaware River at River Mile 61.8, in Delaware City, New Castle County, Delaware.

12. Naval Surface Warfare Center, Carderock Division, Ship Systems Engineering Station, D-2009-003-1. An application for approval of a surface water withdrawal of up to 1,147.25 mgm from an existing surface water intake to be used for once-through non-contact cooling of land-based test sites (LBTS) for ship systems associated with the Naval Surface Warfare Center, Carderock Division, Ship Systems Engineering Station (NSWCCD-SSES). The project intake is located in the Navy Reserve Basin, which is connected by a channel to the Schuylkill River, one-half mile upstream of the confluence of the Schuylkill and Delaware rivers. The Navy Reserve Basin is located in the City of Philadelphia, Pennsylvania, in the Schuylkill River Watershed.

13. City of Dover, D-2009-014 CP-1. An application for approval of an existing 0.360 mgd discharge of cooling tower blowdown from Outfalls Nos. 004 and 005 from the applicant's McKee Run Electric Generating Station. The project outfalls are located at River Mile 23.70-14.36-0.34 (Delaware River-Saint Jones River-McKee Run) in the City of Dover, Kent County, Delaware.

14. Reading Area Water Authority—Maiden Creek, D-2010-009 CP-1. An application for approval of an existing 4.3 mgd discharge from the Maiden Creek Water Filtration Plant (WFP). The discharge consists of filter backwash, pump seal water, chlorine analyses, and diesel generator cooling water from the WFP. Modifications to the backwash treatment process are proposed that will not increase the capacity of the WFP. The project discharges to Maiden Creek at River Mile 92.47-85.63-0.24 (Delaware River-Schuylkill River-Maiden Creek) in Ontelaunee Township, Berks County, Pennsylvania.

15. Friesland Campino Domo, D-2010-010-1. An application for approval of an existing groundwater withdrawal project to supply up to 31.95 mg/30 days of water to the applicant's vitamin production facility from existing Wells No. 1 and 2. The project is located in the Lower Walton Formation in the West Branch Delaware River Watershed in the Town of Delhi, Delaware County, New York, within the drainage area of the section of the non-tidal Delaware River known as the Upper Delaware, which is classified as Special Protection Waters.

16. Schuylkill County Municipal Authority—Deer Lake, D-2010-019 CP-1. An application for approval to expand the existing Deer Lake WWTP from a hydraulic design of 0.229 mgd to 1.0 mgd. Treated wastewater will continue to discharge to Pine Creek at River Mile 92.47-106.75-2.35 (Delaware River-Schuylkill River-Pine Creek) via Outfall No. 001, in West Brunswick Township, Schuylkill County, Pennsylvania.

17. Gloucester County Utilities Authority—Pitman Golf Course, D-2010-029 CP-1. An application for approval to construct and operate the 0.2 mgd Pitman Golf Course (PGC) WWTP. Effluent limits for the PGC WWTP will be based upon a 0.1 mgd discharge, the requested irrigation flow required at the PGC to avoid an increase in withdrawal from New Jersey Critical Water Supply Area 2. The PGC WWTP will receive flow from the Chestnut Branch Interceptor, an existing component of the wastewater collection system for the Gloucester County Utilities Authority (GCUA) WWTP, which discharges to Water Quality Zone 4 in the tidal Delaware River. After treatment, the effluent will be spray-irrigated on the Pitman Golf Course, located in Mantua Township, Gloucester County, New Jersey. Excess wastewater withdrawn from the Interceptor will be returned to the Interceptor for treatment at the GCUA's 27 mgd WWTP located in West Deptford, Gloucester County, New Jersey.

In addition to the standard business meeting items, consisting of adoption of the Minutes of the Commission's May 5 and July 14, 2010 business meetings, announcements of upcoming meetings and events, a report on hydrologic conditions, reports by the Executive Director and the Commission's General Counsel, public hearings on water withdrawal and discharge projects, and public dialogue, the business meeting also will include a public hearing on a resolution concerning delegation of DRBC review of the Southport Marine Terminal project and consideration by the Commission of its proposal (published in February and March of 2010) to amend water charging rates.

Draft dockets scheduled for public hearing on September 15, 2010 can be accessed through the Notice of Commission Meeting and Public Hearing on the Commission's Web site, drbc.net, ten days prior to the meeting date. Additional public records relating to the dockets may be examined at the Commission's offices. Please contact William Muszynski at 609-883-9500, extension 221, with any docket-related questions.

Note that conference items are subject to change and items scheduled for hearing are occasionally postponed to allow more time for the Commission to consider them. Please check the Commission's Web site, drbc.net, closer to the meeting date for changes that may be made after the deadline for filing this notice.

Individuals who wish to comment for the record on a hearing item or to address the Commissioners informally during the public dialogue portion of the meeting are asked to sign up in advance by contacting Ms. Paula Schmitt of the Commission staff, at paula.schmitt@drbc.state.nj.us or by phoning Ms. Schmitt at 609-883-9500 ext. 224.

Individuals in need of an accommodation as provided for in the Americans with Disabilities Act who wish to attend the informational meeting, conference session or hearings should contact the Commission Secretary directly at 609-883-9500 ext. 203 or through the Telecommunications Relay Services (TRS) at 711, to discuss how the Commission can accommodate your needs.

Dated: August 24, 2010.
Pamela M. Bush,
Commission Secretary.

[FR Doc. 2010-21505 Filed 8-27-10; 8:45 am]

BILLING CODE 6360-01-P